DEPARTMENT OF COMMERCE

National Oceanic and Atmospheric Administration

50 CFR Part 300

[Docket No. 230615-0151; RTID 0648-XD142]

Pacific Halibut Fisheries of the West Coast; Inseason Action for the 2023 Area 2A Pacific Halibut Directed Commercial Fishery

AGENCY: National Marine Fisheries Service (NMFS), National Oceanic and Atmospheric Administration (NOAA), Commerce.

ACTION: Temporary rule; inseason adjustment.

SUMMARY: NMFS announces an inseason action for the 2023 non-tribal directed commercial Pacific halibut fishery that operates south of Point Chehalis, Washington (lat. 46°53.30′ N) in the International Pacific Halibut Commission's regulatory Area 2A off Washington, Oregon, and California. Specifically, this action adds an additional fishing period beginning on August 1, 2023 at 8 a.m. and closing on August 3, 2023 at 6 p.m. and implements a fishing period catch limit of 1,000 pounds (lb) (0.45 mt) dressed weight for all vessel size classes. This action is intended to conserve Pacific halibut and provide commercial fishing opportunity where available.

DATES: Effective date: July 24, 2023, through December 31, 2023.

FOR FURTHER INFORMATION CONTACT: Melissa Mandrup, 562-980-3231, Melissa.Mandrup@noaa.gov.

SUPPLEMENTARY INFORMATION: On June 26, 2023, NMFS published a final rule implementing harvest specifications, fishing periods, and fishing period limits by vessel size class for the Area 2A non-tribal directed commercial Pacific halibut fishery (88 FR 41334), as authorized by the Northern Pacific Halibut Act of 1982 (16 U.S.C. 773-773(k)). The Pacific Fishery Management Council 2023 Catch Sharing Plan provides a recommended framework for NMFS' management considerations and allocations based on the 2023 Area 2A Pacific halibut catch limit of 1,520,000 pounds (lb) (689 metric tons (mt)) set by the International Pacific Halibut Commission (IPHC). The Area 2A catch limit and commercial fishery allocations were adopted by the IPHC and were published in the Federal Register on March 7, 2023 (88 FR 14066) after acceptance by the Secretary of State, with concurrence from the Secretary of Commerce, in accordance with 50 CFR 300.62.

Per a final rule published on June 26, 2023 (88 FR 41334), two fishing periods were set for the 2023 directed commercial Pacific halibut fishery; the first fishing period began on June 27, 2023 at 8 a.m. and closed on June 29 at 6 p.m. and the second fishing period opened on July 11, 2023 at 8 a.m. and closed on July 13 at 6 p.m. Fishing period limits for the fishing periods announced in the final rule varied by vessel size class, ranging from 2,716 lb (1.23 mt) to 6,136 lb (2.78 mt). Federal regulations at 50 CFR 300.63(e)(1)(iii), “Inseason action to add fishing periods and associated fishing period limits,” allow the NMFS Regional Administrator to add fishing periods as needed to attain the directed commercial fishery allocation. Fishing period limits, for those fishing periods added inseason, are equal across all vessel size classes.

Landings information at the conclusion of the second fishing period indicate that sufficient allocation remains to warrant an additional fishing period without exceeding the allocation for the Area 2A directed commercial fishery. As stated above, inseason addition of fishing periods with fishing period limits equal across all vessel size classes is authorized by Federal regulations at 50 CFR 300.63(e)(1)(iii) and was announced in the final rule (88 FR 41334, June 26, 2023). NMFS determined the following inseason action is necessary to meet the management objective of attaining the directed commercial fishery allocation, will not result in exceeding the allocation, and is consistent with the inseason management provisions allowing for additional fishing periods. Notice of this additional fishing period and fishing period limits will also be announced on the NMFS hotline at 206-526-6667 or 800-662-9825.

Inseason Action

Description of the action: This inseason action implements an additional fishing period, beginning August 1, 2023 at 8 a.m. and ending on August 3, 2023 at 6 p.m. This inseason action also implements a fishing period catch limit of 1,000 lb (0.45 mt) dressed weight (880 lb (0.40 mt) net weight) for all vessel size classes.

Reason for the action: The purpose of this inseason action is to provide additional opportunity for commercial halibut fishery participants in Area 2A. The first fishing period opened on June 27, 2023 at 8 a.m. and closed on June 29, 2023 at 6 p.m. The second fishing period opened on July 11, 2023 at 8 a.m. and closed on July 13, 2023 at 6 p.m. NMFS has determined that an additional fishing period is warranted because sufficient allocation remains and that a substantial amount of the allocation will go unharvested without an additional fishing period.

As of July 19, approximately 223,261 lb (101.27 mt), net weight, have been harvested of the 257,819 lb (116.95 mt) allocation (87 percent), leaving 34,558 lb (15.68 mt) remaining (13 percent). With little risk of the directed commercial fishery allocation being exceeded, an additional fishing period is warranted for participants in the directed commercial fishery. Therefore, through this action, NMFS is adding one fishing period not previously implemented in the final rule on June 26, 2023 (88 FR 41334). Specifically, an additional fishing period is announced for August 1, 2023 at 8 a.m. until August 3, 2023 at 6 p.m.

Fishing period limits for the two fishing periods, implemented in the final rule (88 FR 41334, June 26, 2023), varied across vessel size classes, ranging from 2,715 lbs. (1.23 mt) to 6,135 lbs. (2.78 mt), and were based on the number of permits issued and the allocation. Fishing period limits implemented through inseason action are equal across vessel size classes, as described in the final rule. Based on the allocation estimated to be remaining and the projected participation in this additional fishing period, the fishing period limit for all vessel size classes is 1,000 lb, (0.45 mt) dressed weight.

Notice of this additional fishing period and fishing period limit will also be announced on the NMFS hotline at 206-526-6667 or 800-662-9825.

Classification

NMFS issues this action pursuant to the Northern Pacific Halibut Act of 1982. This action is taken under the regulatory authority at 50 CFR 300.63(e)(1)(iii), and is exempt from review under Executive Order 12866.

Pursuant to 5 U.S.C. 553(b)(3)(B), there is good cause to waive prior notice and an opportunity for public comment on this action, as notice and comment would be impracticable and contrary to the public interest. The California, Oregon, and Washington Departments of Fish and Wildlife provided estimated harvest data to NMFS, showing that the fishery participants in the directed commercial fishery had caught only an estimated 87 percent of the directed commercial fishery allocation. NMFS uses current fishery harvest and participation estimates, and fishing period catches from prior years to determine if additional fishing periods are necessary and to set fishing period limits. Given that harvest in the first two fishing periods is below the allocation, a third fishing period is considered necessary to increase commercial fishing opportunity to attain the directed commercial fishery allocation. This action should be implemented as soon as possible for fishery participants to plan for the additional fishing. This fishery has historically had 2 weeks between fishing periods, or as close to 2 weeks between them as is practicable, and closes no later than December 7, 2023 (88 FR 14066, March 3, 2023). As such, implementing this action through proposed and final rulemaking would limit the benefit this action would provide to fishery participants. Without implementation of an additional fishing period, the directed commercial fishery allocation is unlikely to be reached, limiting economic benefits to the participants and not meeting the goals of the Catch Sharing Plan. It is necessary that this rulemaking be implemented in a timely manner so that planning for additional fishing periods can take place, and for business decision making by the regulated public impacted by this action, which includes commercial fishing operations and associated port businesses, among others. To ensure the regulated public is fully aware of this action, notice of this regulatory action will also be provided to fishery participants through a telephone hotline, and news release. No aspect of this action is controversial, and changes of this nature were anticipated in the process described in regulations at 50 CFR 300.63(e)(1)(iii) and in the final rule (88 FR 41334, June 26, 2023).

For the reasons discussed above, there is also good cause under 5 U.S.C. 553(d)(3) to waive the 30-day delay in effective date and make this action effective immediately upon filing for public inspection, as a delay in effectiveness of this action would constrain fishing opportunity and be inconsistent with the goals of the Catch Sharing Plan, as well as potentially limit the economic opportunity intended by this rule to the associated fishing communities. This inseason action is not expected to result in exceeding the allocation for the directed commercial fishery. NMFS regulations allow the Regional Administrator to add fishing periods and set fishing period limits inseason, provided that the action allows allocation objectives to be met and will not result in exceeding the catch limit for the fishery. NMFS recently received information on the progress of landings in the directed commercial fishery, indicating an additional fishing period with fishing period limits should be implemented in the fishery to ensure optimal and sustainable harvest of the allocation. As stated above, it is in the public interest that this action is not delayed, because a delay in the effectiveness of this additional fishing period would not allow the allocation objectives of the directed commercial Pacific halibut fishery to be met.

Authority: 16 U.S.C. 773-773k.

Dated: July 24, 2023.
Jennifer M. Wallace,
Acting Director, Office of Sustainable Fisheries, National Marine Fisheries Service.

[FR Doc. 2023-15915 Filed 7-24-23; 4:15 pm]

BILLING CODE 3510-22-P